DEPARTMENT OF ENERGY

Federal Energy Regulatory Commission

[Docket No. ER04-14-000 and EL04-29-000]

Detroit Edison Company; Notice of Initiation of Proceeding and Refund Effective Date

December 2, 2003.

Take notice that on December 1, 2003, the Commission issued an order in the above-referenced dockets initiating an investigation in Docket No. EL04-29-000 under section 206 of the Federal Power Act.

The refund effective date in Docket No. EL04-29-000, established pursuant section 206(b) of the Federal Power Act, will be 60 days following publication of this notice in the Federal Register.

Magalie R. Salas,
Secretary.

[FR Doc. E4-724 Filed 3-31-04; 8:45 am]

BILLING CODE 6717-01-P